DEPARTMENT OF ENERGY

Federal Energy Regulatory Commission

[Project No. 1966-054]

Wisconsin Public Service Corporation; Notice of Application Tendered For Filing with the Commission and Establishing Procedural Schedule For Licensing and Deadline For Submission of Final Amendments

Take notice that the following hydroelectric application has been filed with the Commission and is available for public inspection.

a. Type of Application: New Major License.

b. Project No.: P-1966-054.

c. Date filed: March 30, 2016.

d. Applicant: Wisconsin Public Service Corporation.

e. Name of Project: Grandfather Falls Hydroelectric Project.

f. Location: The existing project is located on the Wisconsin River in Lincoln County, Wisconsin. The project would occupy 0.1 acres of Federal land managed by the Bureau of Land Management.

g. Filed Pursuant to: Federal Power Act 16 U.S.C. 791(a)-825(r).

h. Applicant Contact: Todd P. Jastremski, Asset Manager Hydro Operations, WE Energies, 800 Industrial Park Drive, Iron Mountain, MI 49801; or at (906) 779-4099.

i. FERC Contact: Lee Emery at (202) 502-8379 or by email at lee.emery@ferc.gov.

j. This application is not ready for environmental analysis at this time.

k. The existing Grandfather Falls Hydroelectric Project consists of (1) a 36-foot-high, 625-foot-long reinforced concrete main dam with a crest elevation of 1,402 feet National Geodetic Vertical Datum (NGVD) that includes a masonry non-overflow wall, a concrete spillway section with seven Tainter gates, and a non-overflow masonry dam and a rockfill embankment with masonry core wall; (2) a 340-acre reservoir at a full-pool elevation of 1,397.1 feet NGVD; (3) a 67-foot-long by 51-foot-wide powerhouse containing an 11-MW turbine-generator and a 6.2-megawatt (MW) turbine-generator providing a combined installed capacity 17.2 MW; (4) a 300-foot-wide by 4,000-foot-long intake canal; (5) an 11-foot- diameter by 1,325-foot-long wooden stave penstock and a 13.5-foot-diameter by 1,325-foot-long wooden stave penstock to the powerhouse; (7) a steel surge tank connected to each penstock; (8) an intake structure at the downstream end of the intake canal with two 55.5-foot-wide by 30.5-foot-high trashracks with a clear bar spacing of 2.5 inches; (9) a 20-foot-wide by 167-foot long concrete sluiceway at the canal intake structure; (10) 6.9-kilovolt (kV) generator leads; (11) a 300-foot-long, 46 kV overhead transmission line; and (12) appurtenant facilities. The intake canal and penstocks bypass about 4,800 feet of the Wisconsin River.

The Grandfather Falls Project is operated in a limited peaking mode. The project is fully automated and is remotely operated from Wisconsin Public Service's control center in Green Bay, which is staffed 24 hours a day, and 365 days a year. Remote operation includes starting and stopping the project generators, monitoring kilowatt output, monitoring headwater and tailwater gage elevations, and maintaining headwater elevations through the operation of a heated gate structure. The project is required to maintain a minimum flow of 400 cubic feet per second (cfs) or inflow, whichever is less, as measured below the project tailrace and include a continuous minimum flow of 50 cfs released into the bypassed reach of the Wisconsin River between the project dam and the tailrace.

During normal peaking operations, the impoundment is drawn down from the maximum pond elevation during the day and refilled at night providing one peaking cycle per day. The maximum elevation of the impoundment is 1,397.1 feet NGVD and the minimum elevation is 1,396.1 feet NGVD. The operating regime has both seasonal and daily variations depending on precipitation and controlled releases made at upstream storage reservoirs, regulated by the Wisconsin Valley Improvement Company. Water releases from the Tomahawk and the Grandmother Falls projects and the non-power dam at Spirit Lake, (which are all located upstream from the Grandfather Falls Project) are coordinated with water releases from the Grandfather Falls Project to ensure that adequate water is available in the Wisconsin River during the seasonal low-flow periods. The pondage provided by the 1 foot of maximum drawdown between elevation 1,396.1 feet NGVD and 1397.1 feet NGVD for the Grandfather Falls Project, is used to augment and adjust the timing of the peaking operation at the project. Recharge of the Grandfather Falls reservoir occurs in the late evening and early morning hours. The peaking discharges from the Grandfather Falls Project are attenuated by the effects of the downstream Bill Cross Rapids (which is part of a free-flowing stretch of the Wisconsin River) with no evidence of the project's peaking effects visible at Wisconsin Public Service Corporation's downstream Alexander Project (FERC No. 1979), which operates in a run-of-river mode. When flows in the Wisconsin River exceed 2,820 cfs, water is discharged via operation of the spillway Tainter gates at the project.

l. A copy of the application is available for review at the Commission in the Public Reference Room or may be viewed on the Commission's Web site at http://www.ferc.gov using the “eLibrary” link. Enter the docket number excluding the last three digits in the docket number field to access the document. For assistance, contact FERCOnline Support@ferc.gov, (866) 208-3676 (toll free) or (202) 502-8659 (TTY). A copy is also available for inspection and reproduction at the address in item h above.

m. You may also register online at http://www.ferc.gov/docs-filing/esubscription.asp to be notified via email of new filings and issuances related to this or other pending projects. For assistance, contact FERC Online Support.

n. Procedural schedule:

The application will be processed according to the following preliminary Hydro Licensing Schedule. Revisions to the schedule may be made as appropriate.

Milestone | Target date
Notice of Acceptance/Notice of Ready for Environmental Analysis | June 2016.
Filing of recommendations, preliminary terms and conditions, and fishway prescriptions | August 2016.
Issue Environmental Assessment (EA) | December 2016.
Comments due on EA | January 2017.
Modified terms and conditions | March 2017.

o. Final amendments to the application must be filed with the Commission no later than 30 days from the issuance date of the notice of ready for environmental analysis.

Dated: April 6, 2016.
Kimberly D. Bose,
Secretary.

[FR Doc. 2016-09092 Filed 4-19-16; 8:45 am]

BILLING CODE 6717-01-P